ENVIRONMENTAL PROTECTION AGENCY

40 CFR Part 52

[EPA-R10-OAR-2010-1071; FRL-9919-37-Region 10]

Approval and Promulgation of Implementation Plans; State of Washington; Regional Haze State Implementation Plan; Federal Implementation Plan for Best Available Retrofit Technology for Alcoa Intalco Operations, Tesoro Refining and Marketing, and Alcoa Wenatchee

AGENCY: Environmental Protection Agency (EPA).

ACTION: Proposed rule.

SUMMARY: On June 11, 2014, the Environmental Protection Agency (EPA) published a final rule in the Federal Register concerning, in part, promulgation of a Federal Implementation Plan (FIP) provision for regional haze in the State of Washington. This action identifies and corrects an error in that action by adding the factor to convert from tons of sulfur dioxide (SO2) to pounds of SO2 that was inadvertently left out of the amendatory instructions for the FIP for the Alcoa Wenatchee Works.

DATES: Comments must be received on or before December 24, 2014.

ADDRESSES: Submit your comments, identified by Docket ID No. EPA-R10-OAR-2010-1071, by any of the following methods:

• www.regulations.gov: Follow the on-line instructions for submitting comments.

• Email: body.steve@epa.gov

• Mail: Steve Body, U.S. EPA Region 10, Office of Air, Waste and Toxics, AWT-150, 1200 Sixth Avenue, Suite 900, Seattle, WA 98101

• Hand Delivery/Courier: U.S. EPA Region 10, 1200 Sixth Avenue, Suite 900, Seattle, WA 98101. Attention: Steve Body, Office of Air, Waste and Toxics, AWT-150. Such deliveries are only accepted during normal hours of operation, and special arrangements should be made for deliveries of boxed information.

Please see the direct final rule which is located in the Rules section of this Federal Register for detailed instructions on how to submit comments.

FOR FURTHER INFORMATION CONTACT: Steve Body at telephone number: (206) 553-0782, email address: body.steve@epa.gov, or the above EPA, Region 10 address.

SUPPLEMENTARY INFORMATION: For further information, please see the direct final action, of the same title, which is located in the Rules section of this Federal Register. The EPA is correcting an error made in a final rule (79 FR 33438, June 11, 2014) by adding the conversion factor from tons to pounds of SO2 to 40 CFR 52.2502(b)(1)(i). The EPA is making this correction without prior proposal because the EPA views this as a noncontroversial revision and anticipates no adverse comments. A detailed rationale for the action is set forth in the preamble to the direct final rule. If the EPA receives no adverse comments, the EPA will not take further action on this proposed rule.

If the EPA receives adverse comments, the EPA will withdraw the direct final rule and it will not take effect. The EPA will address all public comments in a subsequent final rule based on this proposed rule. The EPA will not institute a second comment period on this action. Any parties interested in commenting on this action should do so at this time. Please note that if we receive adverse comment on an amendment, paragraph, or section of this rule and if that provision may be severed from the remainder of the rule, the EPA may adopt as final those provisions of the rule that are not the subject of an adverse comment.

Dated: October 27, 2014.
Michelle Pirzadeh,
Acting Regional Administrator, Region 10.

[FR Doc. 2014-27501 Filed 11-21-14; 8:45 am]

BILLING CODE 6560-50-P